ENVIRONMENTAL PROTECTION AGENCY

40 CFR Part 300

[EPA-HQ-SFUND-1989-0008, Notice 4; FRL-8691-8]

National Oil and Hazardous Substance Pollution Contingency Plan; National Priorities List

AGENCY: Environmental Protection Agency.

ACTION: Withdrawal of direct final Notice of Deletion.

SUMMARY: On June 13, 2008 EPA published a Notice of Intent to Delete (73 FR 33758) and a direct final Notice of Deletion (73 FR 33721) for the Fourth Street Abandoned Refinery Superfund Site from the National Priorities List. The EPA is withdrawing the Final Notice of Deletion due to adverse comments that were received during the public comment period. After consideration of the comments received, if appropriate, EPA will publish a Notice of Deletion in the Federal Register based on the parallel Notice of Intent to Delete and place a copy of the final deletion package, including a Responsiveness Summary, if prepared, in the Site repositories.

EFFECTIVE DATE: This withdrawal of the direct final action is effective as of July 15, 2008.

ADDRESSES:

Information Repositories: Comprehensive information on the Site, as well as the comments that we received during the comment period, are available in docket EPA-HQ-SFUND-1989-0008, Notice 4, accessed through the http://www.regulations.gov Web site. Although listed in the docket index, some information is not publicly available, e.g., CBI or other information whose disclosure is restricted by statute. Certain other material, such as copyrighted material, will be publicly available only in hard copy. Publicly available docket materials are available either electronically in http://www.regulations.gov or in hard copy at:

U.S. EPA Online Library System at http://www.epa.gov/natlibra/ols.htm;

U.S. EPA Region 6, 1445 Ross Avenue, Suite 700, Dallas, Texas 75202-2733, (214) 665-6617, by appointment only Monday through Friday 9 a.m. to 12 p.m. and 1 p.m. to 4 p.m.;

Ralph Ellison Library, 2000 Northeast 23, Oklahoma City, OK 73111, (409) 643-5979, Monday through Wednesday 9 a.m. to 9 p.m., Thursday and Friday 9 a.m. to 6 p.m., Saturday 10 a.m. to 4 p.m.;

Oklahoma Department of Environmental Quality (ODEQ), 707 North Robinson, Oklahoma City, Oklahoma, 73101, (512) 239-2920, Monday through Friday 8 a.m. to 5 p.m.

FOR FURTHER INFORMATION CONTACT: Bartolome Canellas, Remedial Project Manager, U.S. Environmental Protection Agency, Region 6, 6SF-RL, 1445 Ross Avenue, Dallas, Texas 75202-2733, canellas.bart@epa.gov or (214) 665-6662 or 1-800-533-3508.

SUPPLEMENTARY INFORMATION:

List of Subjects in 40 CFR Part 300

Environmental protection, Air pollution control, Chemicals, Hazardous Waste, Hazardous substances, Intergovernmental relations, Penalties, Reporting and recordkeeping requirements, Superfund, Water pollution control, Water Supply.

Authority: 33 U.S.C. 1321(c)(2); 42 U.S.C. 9601-9657; E.O. 12777, 56 FR 54757, 3 CFR, 1991 Comp., p. 351; E.O. 12580, 52 FR 2923; 3 CFR, 1987 Comp., p. 193.

Dated: June 26, 2008.
Richard E. Greene,
Regional Administrator, Region 6.

Accordingly, the amendment to Table “1” of Appendix B to 40 CFR Part 300 to remove the entry “Fourth Street Abandoned Refinery”, “Oklahoma City, Oklahoma” is withdrawn as of July 15, 2008.

[FR Doc. E8-16124 Filed 7-14-08; 8:45 am]

BILLING CODE 6560-50-P